DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigation is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided each request is filed in writing with the Director, Division of Trade Adjustment Assistance, at the address shown below, not later than October 15, 2001.

Interested persons are invited to submit written comments regarding the subject matter of the investigations to the Director, Division of Trade Adjustment Assistance, at the address shown below, not later than October 15, 2001.

The petitions filed in this case are available for inspection at the Office of the Director, Division of Trade Adjustment Assistance, Employment and Training Administration, U.S. Department of Labor, Room C-5311, 200 Constitution Avenue, NW., Washington, DC 20210.

Signed at Washington, DC this 13th day of August, 2001.
Edward A. Tomchick,
Director, Division of Trade Adjustment Assistance.

APPENDIX
[Petitions Instituted On 08/13/2001]
TA-W | Subject firm (petitioners) | Location | Date of petition | Product(s)
39,777 | Allison Manufacturing (Wkrs) | McAllan, TX | 07/25/2001 | Printed Children's Apparel.
39,778 | Coats North America (Co.) | Thomasville, GA | 07/18/2001 | Industrial Sewing Thread.
39,779 | Albany Chicago Co. (Wkrs) | Pleasant Prairi, WI | 07/27/2001 | Custom Die Cast and Machined Components.
39,780 | Huntsman Polymers Corp (Wkrs) | Odessa, TX | 07/16/2001 | Styrene Monomer.
39,781 | American Components (Wkrs) | Dandridge, TN | 08/02/2001 | Automotive Lumbar Supports.
39,782 | Con Agra Flour Milling (BCIWAM) | N. Kansas City, MO | 08/01/2001 | Milled Wheat Flour.
39,783 | Plastic Source (Co.) | El Paso, TX | 07/26/2001 | Headlamp Parts.
39,784 | Elcom, Inc. (Wkrs) | El Paso, TX | 07/26/2001 | Automotive Electronics.
39,785 | GKN Sinter Metals (Wkrs) | St. Mary, PA | 07/17/2001 | Powder Metal Parts.
39,786 | Alltrista Zinc Products (Wkrs) | Greeneville, TN | 07/26/2001 | Drawn Zinc Battery Shells.
39,787 | Sheldahl, Inc. (Wkrs) | Britton, SD | 07/30/2001 | Flexible Printed Circuits.
39,788 | Lancer Corp. (Wkrs) | San Antonio, TX | 07/31/2001 | Beverage—Fittings.
39,789 | Guilford of Maine (Wkrs) | Guilford, ME | 07/31/2001 | Fabric for Office Furniture.
39,790 | Vishay Cera-Mite (Wkrs) | Oconto, WI | 07/24/2001 | Electronic Capacitor.
39,791 | Tri Cities Mfg. (Wkrs) | Tuscumbia, AL | 07/26/2001 | Brush Plate Assemblies.
39,792 | Kinston Apparel (Wkrs) | Kinston, NC | 07/30/2001 | Men's Dress Shirts and boxer shorts.
39,793 | Fourth Edition (Wkrs) | Terre Hill, PA | 07/30/2001 | Ladies Lingerie.
39,794 | Advanced Refractory Tech. (Wkrs) | Buffalo, NY | 07/30/2001 | Aluminum Nitride Powder.
39,795 | Garland Shirt (Wkrs) | Garland, NC | 07/30/2001 | Dress Shirts.
39,796 | Scapa North America (Wkrs) | Watertown, NY | 07/30/2001 | Pressure Sensitive Tape.
39,797 | Centennial Tool (Wkrs) | Meadville, PA | 07/30/2001 | Tool and Die and Component Tooling.
39,798 | Friedrich and Dummick (Wkrs) | Millville, NJ | 07/24/2001 | Fiber Optics.
39,799 | Greensboro Printing (Wkrs) | Greensboro, NC | 06/22/2001 | Labels and Information Sheets.
39,800 | Van Mar, Inc (Wkrs) | East Brunswick, NJ | 07/26/2001 | Ladies' Underwear.
39,801 | i2 Technologies (Wkrs) | Yorba Linda, CA | 07/26/2001 | Electronic Components.
39,802 | Superior Dye (Wkrs) | Passaic, NJ | 07/19/2001 | Textile Dyeing and Processing.
39,803 | New Monarch Machine Tool (UAW) | Cortland, NY | 07/26/2001 | CNC Maching Centers.
39,804 | Kemet Electronics (Co.) | Greenville, SC | 07/23/2001 | Ceramic and Tantalum.
39,805 | Donaldson Company (Co.) | Louisville, KY | 07/27/2001 | Panels, Hoppers, Fan Assemblies.
39,806 | Kysor Panel Systems (WCTW) | Portland, OR | 06/15/2001 | Walk-in-Coolers and Freezers.
39,807 | Water Wonders (Co.) | Santa Marcia, CA | 04/25/2001 | Water Fountains.
39,808 | Briggs and Stratton Corp. (PACE) | Milwaukee, WI | 07/30/2001 | Small Gasoline Engines.
39,809 | KMA Manufacturing (Co.) | Livingston, TN | 07/24/2001 | Men's and Ladies' Shirts.
39,810 | Carpenter Technology (Co.) | Reading, PA | 07/30/2001 | Stainless Steel Bar, Rod and Wire.
39,811 | Howes Leather (Wkrs) | Curwensville, PA | 07/30/2001 | Leather Products.
39,812 | ACRO Industrial-Eastman (Co.) | Rochester, NY | 07/29/2001 | Steel.
39,813 | Greenwood Mills (Co.) | Greenwood, SC | 08/01/2001 | Denim Cloth.
39,814 | Tingley Rubber Corp. (Co.) | So. Plainfield, NJ | 07/27/2001 | Protective Rubber and PVC Footwear.
39,815 | Yale Hoists (Co.) | Forrest City, AR | 08/02/2001 | Lever Operated Hoists.
39,816 | CNB International, Inc (Wkrs) | Buffalo, NY | 07/26/2001 | Press and Metal Forming.
39,817 | AMI Doduco (Co.) | Cedar Knolls, NJ | 07/02/2001 | Electrical Contact Parts.
39,818 | CMI Industrial (Co.) | Clarkesville, GA | 07/27/2001 | Woven Filament Fabrics.
39,819 | Engineered Sintered (Co.) | Troutman, NC | 07/26/2001 | Powdered Metal Automotive Components.
39,820 | Tyco Electronics (Co.) | Shrewsbury, PA | 07/24/2001 | Molded Components for Connectors.
39,821 | Clifton Walls Industries (Co.) | Clifton, TX | 07/24/2001 | Apparel.
39,822 | Sweetwater Walls (Co.) | Sweetwater, TX | 07/24/2001 | Apparel.
39,823 | Louisville/Saydah Home (Wkrs) | Eminence, KY | 07/11/2001 | Chairpads, Napkins and Placemats.
39,824 | Amerbelle Corporation (UNITE) | Vernon, CT | 08/01/2001 | Textile Dyeing.
39,825 | Area Tool and Mfg. (Co.) | Meadville, PA | 08/03/2001 | Precision Spare Parts—Electronics.
39,826 | Henry Mfg.-Swat Fame (Wkrs) | Los Angeles, CA | 08/01/2001 | Children's and Ladies' Clothing.
39,827 | South East Mat (Co.) | Crossville, TN | 07/30/2001 | Vinyl and Carpeted Floormats.
39,828 | GSC Management Co. (Wkrs) | Enterprise, AL | 07/27/2001 | Ladies' Pants, Slacks and Shorts.
39,829 | ACME Pattern (Wkrs) | Chicago Heights, IL | 07/25/2001 | Pattern Tooling.
39,830 | Keller Ladders-Werner (Wkrs) | Swansboro, GA | 07/18/2001 | Aluminum Ladders.
39,831 | Chipman Union (Co.) | Union Point, GA | 08/06/2001 | Socks.
39,832 | Fiskars Consumer Products (Wkrs) | Wausau, WI | 07/26/2001 | Scissors and Scissors Components.
39,833 | Plymouth Garment (Co.) | Plymouth, NC | 08/03/2001 | Children's Pants.
39,834 | Westvaco Corporation (Co.) | Springfield, MA | 08/01/2001 | Polaroid Film Components.
39,835 | Dyersburg Corporation (Co.) | Dyersburg, TN | 07/19/2001 | Knit Fabric.
39,836 | Exide Technologies (Co.) | Oklahoma City, OK | 07/19/2001 | Lead Acid Batteries.

[FR Doc. 01-24825 Filed 10-3-01; 8:45 am]

BILLING CODE 4510-33-M